DEPARTMENT OF THE INTERIOR

Bureau of Indian Affairs

Indian Gaming

AGENCY: Bureau of Indian Affairs, Interior.

ACTION: Notice of Approved Tribal-State Class III Gaming Compact.

SUMMARY: This notice publishes approval of the agreement between the Northern Cheyenne Tribe and the State of Montana concerning Class III Gaming (Compact).

DATES: Effective Date: March 21, 2013.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act of 1988 (IGRA), Public Law 100-497, 25 U.S.C. 2710(d)(3)(B), the Secretary of the Interior shall publish in the Federal Register notice of approved Tribal-State compacts for the purpose of engaging in Class III gaming activities on Indian lands. On January 23, 2013, the Compact was submitted for review and approval. The Compact defines Indian lands to include the Tongue River Reservoir Lands and extends the term of the Compact for 20 years from the date of this notice or 15 years from the date Class III gaming is conducted on the Tongue River Reservoir Lands.

Dated: March 8, 2013.
Kevin K. Washburn,
Assistant Secretary—Indian Affairs.

[FR Doc. 2013-06444 Filed 3-20-13; 8:45 am]

BILLING CODE 4310-4N-P